DEPARTMENT OF HOMELAND SECURITY

[Docket No. DHS-2015-0002]

President's National Security Telecommunications Advisory Committee Meeting

AGENCY: National Protection and Programs Directorate, DHS.

ACTION: Committee management; notice of partially closed Federal Advisory Committee meeting.

SUMMARY: The President's National Security Telecommunications Advisory Committee (NSTAC) will meet on Wednesday, May 6, 2015, in Washington, DC. The meeting will be partially closed to the public.

DATES: The NSTAC will meet in a closed session on Wednesday, May 6, 2015, from 9 a.m. to 11:15 a.m. and in an open session on Wednesday, May 6, 2015, from 12 p.m. to 2:30 p.m.

ADDRESSES: The meeting will be held at the Eisenhower Executive Office Building, Washington, DC. Due to limited seating, requests to attend in person will be on a first-come basis and the public portion of the meeting will be streamed via webcast at http://www.whitehouse.gov/live, as an alternative option. All those who wish to attend, please send an email to NSTAC@dhs.gov or call Suzanne Daage at 703-235-5461, to register for this meeting. For information on facilities or services for individuals with disabilities or to request special assistance at the meeting, contact nstac@dhs.gov as soon as possible.

The NSTAC is inviting public comment on the issues the committee will consider, as listed in the SUPPLEMENTARY INFORMATION section below. Associated briefing materials that will be discussed at the meeting will be available at www.dhs.gov/nstac for review on April 22, 2015. Comments may be submitted in writing at any time. Comments must be identified by docket number DHS-2015-0002 and may be submitted by one of the following methods:

• Federal eRulemaking Portal: http://www.regulations.gov. Follow the instructions for submitting comments.

• Email: NSTAC@dhs.gov. Include the docket number in the subject line of the message.

• Fax: 703-235-5961, Attn: Suzanne Daage.

• Mail: Designated Federal Officer, National Security Telecommunications Advisory Committee, National Protection and Programs Directorate, Department of Homeland Security (DHS), 245 Murray Lane, Mail Stop 0604, Arlington, VA 20598-0615.

Instructions: All submissions received must include the words “Department of Homeland Security” and the docket number for this action. Comments received will be posted without alteration at http://www.regulations.gov, including any personal information provided.

Docket: For access to the docket to read background documents or comments received by the NSTAC, go to http://www.regulations.gov.

A public comment period will be held during the open portion of the meeting on Wednesday, May 6, 2015, from 2:05 p.m. to 2:25 p.m., and speakers are requested to limit their comments to three minutes. Please note that the public comment period may end before the time indicated, following the last call for comments. Please contact Suzanne Daage at 703-235-5461 to register as a speaker by close of business on May 1, 2015.

FOR FURTHER INFORMATION CONTACT: Helen Jackson, NSTAC Designated Federal Officer, DHS, telephone (703) 235-5321.

SUPPLEMENTARY INFORMATION: Notice of this meeting is given under the Federal Advisory Committee Act, 5 U.S.C. Appendix. (Pub. L. 92-463). The NSTAC advises the President on matters related to national security and emergency preparedness (NS/EP) telecommunications policy.

Agenda: The committee will meet in an open session to hear a keynote address on DHS activities, and engage in a panel with members of the NS/EP Communications Executive Committee to discuss NS/EP communications challenges and mutual priorities. Additionally, members will receive a status update from the DHS regarding the Government's progress in response to recent NSTAC recommendations. The NSTAC members also will receive an update on the status of the Big Data Analytics Subcommittee. The committee will meet in a closed session to hear a classified briefing regarding cybersecurity threats and discuss future studies based on the Government's national security priorities and perceived vulnerabilities.

Basis for Closure: In accordance with 5 U.S.C. 552b(c), Government in the Sunshine Act, it has been determined that two agenda items require closure as the disclosure of the information would not be in the public interest.

The first of these agenda items, the classified briefing, will provide members with context on nation-state capabilities and strategic threats. Such threats target national telecommunications infrastructure and impact industry's long-term competitiveness and growth, as well as the Government's ability to mitigate threats. Disclosure of these threats would provide criminals who wish to intrude into commercial and Government networks with information on potential vulnerabilities and mitigation techniques, weakening existing cybersecurity defense tactics. This briefing will be classified at the top-secret level, thereby exempting disclosure of the content by statute. Therefore, this portion of the meeting will be closed pursuant to 5 U.S.C. 552b(c)(1)(A).

The second agenda item, the discussion of potential NSTAC study topics, will address areas of critical cybersecurity vulnerabilities and priorities for Government. Government officials will share data with NSTAC members on initiatives, assessments, and future security requirements across public and private networks. The data to be shared includes specific vulnerabilities within cyberspace that affect the Nation's telecommunications and information technology infrastructures and proposed mitigation strategies. Disclosure of this information to the public would provide criminals with an incentive to focus on these vulnerabilities to increase attacks on the Nation's cyber and telecommunications networks. Therefore, this portion of the meeting is likely to significantly frustrate implementation of proposed DHS actions and will be closed pursuant to 5 U.S.C. 552b(c)(9)(B).

Dated: April 7, 2015.
Helen Jackson,
Designated Federal Officer for the NSTAC.

[FR Doc. 2015-08818 Filed 4-16-15; 8:45 am]

BILLING CODE 9110-9P-P